NATIONAL SCIENCE FOUNDATION

Advisory Committee for Education and Human Resources; Notice of Meeting

In accordance with the Federal Advisory Committee Act (Pub. L. 92-463, as amended), the National Science Foundation announces the following meeting:

Name and Committee Code: Advisory Committee for Education and Human Resources (#1119).

Date and Time: April 25, 2019; 8:00 a.m.-5:00 p.m.

Place: National Science Foundation, 2415 Eisenhower Avenue, Room E2030, Alexandria, VA 22314.

To attend the meeting in person, all visitors must contact the Directorate for Education and Human Resources at least 48 hours prior to the meeting to arrange for a visitor's badge. All visitors must access NSF via the Visitor Center entry adjacent to the south building entrance on Eisenhower Avenue on the day of the meeting to receive a visitor's badge. It is suggested that visitors allow time to pass through security screening.

Type of Meeting: Open.

Contact Person: Keaven M. Stevenson, National Science Foundation, 2415 Eisenhower Avenue, Room C11001, Alexandria, VA 22314; (703) 292-8600/kstevens@nsf.gov.

Summary of Minutes: Minutes and meeting materials will be available on the EHR Advisory Committee website at http://www.nsf.gov/ehr/advisory.jsp or can be obtained from Dr. Nafeesa Owens, National Science Foundation, 2415 Eisenhower Ave., Room C11045, Alexandria, VA 22314; (703) 292-8600/nowens@nsf.gov.

Purpose of Meeting: To provide advice with respect to the Foundation's science, technology, engineering, and mathematics (STEM) education and human resources programming.

Agenda

Thursday, April 25, 2019, 8:30 a.m.-5:00 p.m.

Morning Sessions

• Remarks from the EHR Advisory Committee Chair and EHR Assistant Director

• Update on Federal STEM Education 5-Year Strategic Plan

• Updates on NSF BIG IDEAS and from EHR AC Subcommittees

Afternoon Sessions

• Graduate Education AC Subcommittee Report

• Committee Business: Committee of Visitors

• EHR Evaluation

• Discussion with NSF Director, France Córdova and Chief Operating Officer, F. Fleming Crim

Final agenda can be located at the EHR AC: https://www.nsf.gov/ehr/advisory.jsp.

Dated: March 25, 2019.
Crystal Robinson,
Committee Management Officer.

[FR Doc. 2019-06023 Filed 3-28-19; 8:45 am]

BILLING CODE 7555-01-P